DEPARTMENT OF ENERGY

Federal Energy Regulatory Commission

[Docket Nos. RP03-398-000 and RP04-155-000 (Consolidated)]

Northern Natural Gas Company; Notice of Informal Settlement Conference

May 28, 2004.

Take notice that an informal settlement conference will be convened in this proceeding commencing at 1 p.m. (e.s.t.) on Thursday, June 17, 2004, and continuing, if necessary, at 9:30 a.m. on Friday, June 18, 2004, in a room to be announced later at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Kevin Frank, (202) 502-8065, kevin.frank@ferc.gov; Gopal Swaminathan, (202) 502-6132, gopal.swaminathan@ferc.gov; or William Collins, (202) 502-8248, william.collins@ferc.gov.

Magalie R. Salas,
Secretary.

[FR Doc. E4-1268 Filed 6-7-04; 8:45 am]

BILLING CODE 6717-01-P